DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 10, 2009.

Interested persons are invited to submit written comments regarding the subject matter of the investigations to the Director, Division of Trade Adjustment Assistance, at the address shown below, not later than April 10, 2009.

The petitions filed in this case are available for inspection at the Office of the Director, Division of Trade Adjustment Assistance, Employment and Training Administration, U.S. Department of Labor, Room N-5428, 200 Constitution Avenue, NW., Washington, DC 20210.

Signed at Washington, DC, this 20th day of March 2009.
Linda G. Poole,
Certifying Officer, Division of Trade Adjustment Assistance.

Appendix—111
[TAA petitions instituted between 2/23/09 and 2/27/09]
TA-W | Subject firm (petitioners) | Location | Date of institution | Date of petition
65326 | Horton Manufacturing Co., LLC (Wkrs) | Tallmadage, OH | 02/23/09 | 02/17/09
65327 | Shamrock Specialty Pack (Wkrs) | El Paso, TX | 02/23/09 | 02/20/09
65328 | Jeld-Wen Premium Wood Doors (Comp) | Oshkosh, WI | 02/23/09 | 02/18/09
65329 | General Motors/Toledo Powertrain (UAW) | Toledo, OH | 02/23/09 | 02/17/09
65330 | KX Technology, LLC (State) | West Haven, CT | 02/23/09 | 02/20/09
65331 | Tru Seal Technologies (Wkrs) | Barbouville, KY | 02/23/09 | 02/03/09
65332 | Frescale Semiconductor (Wkrs) | Austin, TX | 02/23/09 | 02/19/09
65333 | Valley Mills, Inc. (State) | Valley Head, AL | 02/23/09 | 02/20/09
65334 | Voss Industries (Wkrs) | Taylor, MI | 02/23/09 | 02/20/09
65335 | Engineering Design and Sales, Inc. (Comp) | Danville, VA | 02/23/09 | 02/20/09
65336 | Kennametal, Inc. (Wkrs) | Latrobe, PA | 02/23/09 | 02/20/09
65337 | Waverly Particleboard Company (Wkrs) | Waverly, VA | 02/23/09 | 02/20/09
65338 | Performance Fibers Operations, Inc. (Comp) | Salisbury, NC | 02/23/09 | 02/19/09
65339 | Pentagon Technologies Group, Inc. (Comp) | Portland, OR | 02/23/09 | 02/13/09
65340 | Johnston Textiles, Inc. (Wkrs) | Valley, AL | 02/23/09 | 02/20/09
65341 | Eljer, Inc. (Comp) | Dallas, TX | 02/23/09 | 02/19/09
65342 | Glaize Components (Wkrs) | Shelby, NC | 02/23/09 | 02/19/09
65343 | Air Products and Chemicals, Inc. (Comp) | Easton, PA | 02/23/09 | 01/28/09
65344 | Noranda Aluminum, Inc. (Union) | New Madrid, MO | 02/23/09 | 02/20/09
65345 | Quala-Die, Inc. (Comp) | St. Marys, PA | 02/23/09 | 02/19/09
65346 | Leggett and Platt, Inc. (Wkrs) | Hanover Township, PA | 02/23/09 | 02/20/09
65347 | AV Tool and Engineering, Inc. (Comp) | Clinton TWP, MI | 02/23/09 | 02/17/09
65348 | Small Parts Manufacturing (State) | Portland, WA | 02/23/09 | 02/18/09
65349 | Columbia Forest Products (State) | Newport, VT | 02/24/09 | 02/09/09
65350 | Pennsylvania Industrial Heat Treaters (PIHT), LLC (Comp) | St. Marys, PA | 02/24/09 | 02/24/09
65351 | Ford Motor Company (Dearborn Truck Plant) (State) | Dearborn, MI | 02/24/09 | 02/11/09
65352 | Orhan North America, Inc. (Comp) | Rochester Hills, MI | 02/24/09 | 02/23/09
65353 | Principle Fixture and Millwork, Inc. (Comp) | Osceola, WI | 02/24/09 | 02/23/09
65354 | American Pride, LLC (Comp) | Guilford, ME | 02/24/09 | 02/11/09
65355 | Luhr Jensen Custom Fishing Lures (Wkrs) | Bingen, WA | 02/24/09 | 02/20/09
65356 | Wheatland Tube Company (USW) | Sharon, PA | 02/24/09 | 02/20/09
65357 | Kelly Lumber (State) | Ashland, ME | 02/24/09 | 02/23/09
65358 | Dauphin Precision Tool (USW) | Millersburg, PA | 02/24/09 | 02/23/09
65359 | Modesto Bee (The) (Wkrs) | Modesto, CA | 02/24/09 | 02/07/09
65360 | Thor California (State) | Moreno Valley, CA | 02/24/09 | 02/12/09
65361 | Schaeffler Group USA, Inc. (Wkrs) | Cheraw, SC | 02/24/09 | 02/05/09
65362 | Governors America Corp (Wkrs) | Agawam, MA | 02/24/09 | 02/11/09
65363 | Nobel Automotive Tennessee, LLC (Comp) | Paris, TN | 02/24/09 | 02/23/09
65364 | Sumco Phoenix Corporation (State) | Phoenix, AZ | 02/24/09 | 02/23/09
65365 | International Automotive Components, N.A. (IACNA) (Comp) | Dearborn, MI | 02/25/09 | 02/24/09
65366 | Hewlett Packard Company (State) | Marlborough, MA | 02/25/09 | 02/17/09
65367 | Kern Liebers Textie USA (State) | Charlotte, NC | 02/25/09 | 02/16/09
65368 | Airtex Products, LP (Comp) | Fairfield, IL | 02/25/09 | 02/23/09
65369 | Ethan Allen Operations, Inc.—Andover (Comp) | Andover, ME | 02/25/09 | 02/23/09
65370 | Ethan Allen Operations, Inc.—Old Fort (Comp) | Old Fort, NC | 02/25/09 | 02/23/09
65371 | Finisar Corporation (Wkrs) | Horsham, PA | 02/25/09 | 02/19/09
65372 | Ethan Allen Operations, Inc.—Orleans (Comp) | Orleans, VT | 02/25/09 | 02/23/09
65373 | Qimonda North America (Comp) | Cary, NC | 02/25/09 | 02/23/09
65374 | Rohm and Haas Co. (Wkrs) | West Alexandria, OH | 02/25/09 | 02/05/09
65375 | WestPoint Home, Inc. (Comp) | Calhoun Falls, SC | 02/25/09 | 02/23/09
65376 | Biotage, LLC (Comp) | Charlottesville, VA | 02/25/09 | 02/24/09
65377 | Watertronics (State) | Heartland, WI | 02/25/09 | 02/24/09
65378 | Ethan Allen Operations, Inc.—Beecher Falls (Comp) | Beecher Falls, VT | 02/25/09 | 02/23/09
65379 | Down East Apparel (Comp) | Robersonville, NC | 02/25/09 | 02/24/09
65379A | Anson Shirt Company (Comp) | Wadesboro, NC | 02/25/09 | 02/24/09
65380 | L and L Products (Wkrs) | Romeo, MI | 02/25/09 | 01/25/09
65381 | Ju China Ting, LLC (Wkrs) | New York, NY | 02/25/09 | 02/24/09
65382 | Bahari Group Company (Wkrs) | New York, NY | 02/25/09 | 02/17/09
65383 | Plastic Engineering (State) | Sheboygan, WI | 02/25/09 | 02/24/09
65384 | Quality Mold (Wkrs) | Erie, PA | 02/25/09 | 02/24/09
65385 | General Dynamics Itronix (Comp) | Spokane Valley, WA | 02/25/09 | 02/23/09
65386 | ANP Dimensional Lumber (Wkrs) | Ogema, WI | 02/25/09 | 02/24/09
65387 | Croscill Acquisition, LLC (Wkrs) | Durham, NC | 02/26/09 | 02/24/09
65388 | Findlay Industries (UNITE) | Springfield, OH | 02/26/09 | 02/13/09
65389 | International Automotive Components (UNITE) | Fremont, OH | 02/26/09 | 02/13/09
65390 | Janesville Acoustics (UNITE) | Norwalk, OH | 02/26/09 | 02/13/09
65391 | Wilson Sporting Goods (45810) | Ada, OH | 02/26/09 | 02/13/09
65392 | Smead Manufacturing Company (Wkrs) | Logan, OH | 02/26/09 | 02/25/09
65393 | Superior Trim (UNITE) | Findlay, OH | 02/26/09 | 02/13/09
65394 | Insert Molding Technologies, Inc. (Wkrs) | Warren, PA | 02/26/09 | 02/18/09
65395 | SAPPI Fine Paper N.A. (USW) | Westbrook, ME | 02/26/09 | 02/25/09
65396 | Berkline/BenchCraft, LLC (Comp) | Morristown, TN | 02/26/09 | 02/25/09
65397 | True Textiles (Comp) | Newport, ME | 02/26/09 | 02/25/09
65398 | ACCU-Chek Machining, Inc. (Wkrs) | St. Marys, PA | 02/26/09 | 02/25/09
65399 | HDM Furniture Industries, Henredon Plant #9 (Comp) | Mt. Airy, NC | 02/26/09 | 02/25/09
65400 | Hyosung USA, Inc. (Comp) | Utica, NY | 02/26/09 | 02/25/09
65401 | Ingersoll Rand Industrial Technologies (Wkrs) | Southern Pines, NC | 02/26/09 | 02/02/09
65402 | Ideal Products, LLC (Comp) | Beacon Falls, CT | 02/26/09 | 02/25/09
65403 | Du-Co Ceramics (USW) | Saxonburg, PA | 02/26/09 | 02/06/09
65404 | Fleetwood Fixtures (Wkrs) | Leesport, PA | 02/26/09 | 02/25/09
65405 | Biofit (UNITE) | Bowling Green, OH | 02/26/09 | 02/13/09
65406 | Cummins Filtration (UNITE) | Findlay, OH | 02/26/09 | 02/13/09
65407 | Norton Application Software Services, Inc. (Comp) | Spencer, MA | 02/26/09 | 02/25/09
65408 | DHL Express (State) | San Francisco, CA | 02/26/09 | 02/25/09
65409 | Mohawk Industries (Wkrs) | Calhoun Falls, SC | 02/26/09 | 02/04/09
65410 | Century Aluminum of West Virginia, Inc. (USW) | Ravenswood, WV | 02/26/09 | 02/25/09
65411 | Marmon Keystone Corporation (USW) | Butler, PA | 02/26/09 | 02/08/09
65412 | Bestway Express, Inc. (Wkrs) | Vincennes, IN | 02/26/09 | 02/02/09
65413 | Topy America, Inc. (Wkrs) | Frankfort, KY | 02/26/09 | 02/25/09
65414 | TG Automotive Sealing Kentucky (TGASK) (Wkrs) | Hopkinsville, KY | 02/26/09 | 02/02/09
65415 | Champion Laboratories, Inc. (State) | Albion, IL | 02/27/09 | 02/26/09
65416 | Pilgrim Home and Hearth, LLC (Comp) | Benicia, CA | 02/27/09 | 02/26/09
65417 | Virage Logic Corporation (Wkrs) | Hampton, NJ | 02/27/09 | 02/26/09
65418 | Jim C. Hamer Company (Comp) | Kenora, WV | 02/27/09 | 02/24/09
65419 | EDS, HP Company (Comp) | Lansing, MI | 02/27/09 | 02/20/09
65420 | Millet Industries (Wkrs) | Huntington Beach, CA | 02/27/09 | 02/25/09
65421 | Ashley Furniture (Wkrs) | Ripley, MS | 02/27/09 | 02/26/09
65422 | Sun-Times News Group (Comp) | Merrillville, IN | 02/27/09 | 02/26/09
65423 | Metaldyne (Wkrs) | Litchfield, MI | 02/27/09 | 01/28/09
65424 | Vintage Verandah International (Comp) | Kalispell, MT | 02/27/09 | 02/25/09
65425 | Pass and Seymour/Legrand (Comp) | Whitsett, NC | 02/27/09 | 02/26/09
65426 | The Bergquist Company (Comp) | Cannon Falls, MN | 02/27/09 | 02/26/09
65427 | MoCaro Industries, Inc. (28677) | Statesville, NC | 02/27/09 | 02/26/09
65428 | Multi-Plex (Wkrs) | Howe, IN | 02/27/09 | 02/25/09
65429 | Cenveo Cadmus Communications (Wkrs) | Ephrata, PA | 02/27/09 | 02/26/09
65430 | Niles America Wintech, Inc. (Comp) | Winchester, KY | 02/27/09 | 02/26/09
65431 | CWR Manufacturing Corporation (Comp) | East Syracuse, NY | 02/27/09 | 02/26/09
65432 | Gmark Industries (Comp) | McAlllen, TX | 02/27/09 | 02/26/09
65433 | American Racing (State) | Denver, CO | 02/27/09 | 02/26/09
65434 | J L French Automative Castings, Inc. (Comp) | Sheboygan, WI | 02/27/09 | 02/24/09
65435 | Trim Masters, Inc. (40356) | Nicholasville, KY | 02/27/09 | 02/26/09

[FR Doc. E9-7096 Filed 3-30-09; 8:45 am]

BILLING CODE 4510-FN-P